DEPARTMENT OF ENERGY

Federal Energy Regulatory Commission

[ Docket No. CP10-463-000]

Tennessee Pipeline Company; Notice of Request Under Blanket Authorization

July 1, 2010.

Take notice that on June 18, 2010, Tennessee Pipeline Company (Tennessee), 1001 Louisiana Street, Houston, Texas 77002, filed in Docket No. CP10-463-000, a prior notice request pursuant to sections 157.205 and 157.216 of the Federal Energy Regulatory Commission's regulations under the Natural Gas Act for authorization to abandon an inactive supply lateral designated as Line No. 523A-100, located in Lafourche Parish, Louisiana extending into state waters offshore Louisiana in the Bay Marchand Area, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Specifically, Tennessee proposes to abandon an inactive offshore supply lateral consisting of approximately 11.4 miles of six-inch diameter and associated meters and appurtenances. Tennessee states that a segment of the supply lateral was damaged by Hurricane Ike in September 2008 and the supply lateral has been out of service since this time. Tennessee avers that the proposed abandonment will not result in the termination of any services to Tennessee customers and the receipt point and delivery point proposed for abandonment are not tied to any firm transportation agreement. Tennessee declares that no interruptible services have been provided through the supply lateral in more than twelve months.

Any questions regarding the application should be directed to Susan T. Halbach, Senior Counsel, Tennessee Pipeline Company, 1001 Louisiana Street, Houston, Texas 77002 at (713) 420-5751 or (713) 420-1601 (facsimile) or Debbie Kalisek, Analyst, Certificates & Regulatory Compliance, at (713) 420-3292 or (713) 420-1605 (facsimile).

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-16836 Filed 7-9-10; 8:45 am]

BILLING CODE 6717-01-P